Title 3—

The President

Proclamation 8122 of April 6, 2007

400th Anniversary of Jamestown, 2007

By the President of the United States of America

A Proclamation

Four centuries ago, after a long journey, a small group of colonists stepped boldly onto the shores of the New World and established the first permanent English settlement in North America. During the 400th anniversary of Jamestown, America honors the early pioneers whose epic of endurance and courage started the story of our Nation.

The ideals that distinguish and guide the United States today trace back to the Virginia settlement where free enterprise, the rule of law, and the spirit of discovery took hold in the hearts and practices of the American people. Noble institutions and grand traditions were established in Jamestown. Amid tremendous difficulties, a determined few worked the land and expanded into the wilderness. Without knowing it, the colonists who built communities at Jamestown laid the foundation for a Nation that would become the ultimate symbol and force for freedom throughout the entire world.

Much has changed in the 400 years since that three-sided fort was raised on the banks of the James River. Today, we are a strong and growing Nation of more than 300 million, and we are blessed to live in a land of plenty during a time of great prosperity. The long struggle that started at Jamestown has inspired generations of Americans. Advancing the right to live, work, and worship in liberty is the mission that created our country, the honorable achievement of our ancestors, and the calling of our time.

NOW, THEREFORE, I, GEORGE W. BUSH, President of the United States of America, by virtue of the authority vested in me by the Constitution and laws of the United States, do hereby proclaim 2007 as the 400th Anniversary of Jamestown. I encourage all Americans to commemorate this milestone by honoring the courage of those who came before us, participating in appropriate programs and celebrations, and visiting this historic site with family and friends.

IN WITNESS WHEREOF, I have hereunto set my hand this sixth day of April, in the year of our Lord two thousand seven, and of the Independence of the United States of America the two hundred and thirty-first.

[FR Doc. 07-1828

Filed 4-10-07; 8:52 am]

Billing code 3195-01-P